DEPARTMENT OF TRANSPORTATION

Federal Aviation Administration

Notice of Intent To Request Renewal From the Office of Management and Budget (OMB) of Four Current Public Collections of Information

AGENCY: Federal Aviation Administration (FAA), DOT.

ACTION: Notice.

SUMMARY: In compliance with the Paperwork Reduction Act (44 U.S.C. 3501 et seq.), the FAA invites public comment on four currently approved public information collections which will be submitted to OMB for renewal.

DATES: Comments must be received on or before September 23, 2002.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0007, Flight Engineers and Flight Navigators—FAR 63. The information collected will be used to determine compliance of applicants with the provisions of FAR Part 63, which prescribes the requirements of eligibility for flight navigator and flight engineer certification and training course requirements for those airmen. The current estimated annual reporting burden is 1,009 hours.

2. 2120-0576, Kansas City Center Customer Satisfaction Questionnaire. The information collected on this form represents customer feedback concerning the quality of service provided to the users of Kansas City ARTCC airspace. This information may be used to solve problems, improve safety, and increase system efficiency. Respondents are general aviation pilots, air taxi operators, airlines, military pilots, and adjacent families. The current estimated annual reporting burden is 25 hours.

3. 2120-0605, ACSEP Evaluation Customer Feedback Report. The information is collected from holders of FAA production approvals and selected suppliers to obtain their input on how well the agency is performing the administration and conduct of the Aircraft Certification Systems Evaluation Program (ACSEP). The agency uses the information as a customer service standard and to continually improve ACSEP. The current estimated annual reporting burden is 225 hours.

4. 2120-0651, Additional Flight Data Recorder Requirements for Certain Boeing 737 Airplanes. This collection of information requires the recording of additional operating parameters for certain Boeing 737 airplanes. These additional parameters allow the NTSB and FAA to establish a cause and enable the industry to make appropriate modifications to prevent future incidents. The current estimated annual reporting burden is 1 hour.

Issued in Washington, DC, on July 10, 2002.
Judith D. Street,
FAA Information Collection Clearance Officer, Standards and Information Division, APF-100.

[FR Doc. 02-18618 Filed 7-23-02; 8:45 am]

BILLING CODE 4910-13-M